DEPARTMENT OF TRANSPORTATION

Process for Eligible Businesses Requesting Support Under the Aviation Manufacturing Jobs Protection (AMJP) Program

AGENCY: U.S. Department of Transportation.

ACTION: Solicitation of applications.

SUMMARY: The U.S. Department of Transportation (DOT) is hereby announcing the process for eligible businesses to apply for payroll assistance under the “Aviation Manufacturing Jobs Protection” (AMJP) program, established by the “American Rescue Plan Act of 2021” (ARPA), which was enacted on March 11, 2021. This notice contains critical deadlines, definitions, requirements, and processes for applicants. DOT does not plan to publish any further notice about this program in the Federal Register. Additional information for potential applicants will be published on the DOT program web page at https://www.transportation.gov/AMJP. See further details within the Supplementary Information section of this notice.

DATES: 5:00 p.m. prevailing Eastern time on June 22, 2021 to submit any questions regarding the application process. 5:00 p.m. prevailing Eastern time on July 13, 2021 to submit applications in accordance with the instructions contained in this Notice.

FOR FURTHER INFORMATION CONTACT: Alexus Jenkins-Reid, by phone at (202) 366-5112 or email AMJP@dot.gov.

SUPPLEMENTARY INFORMATION:

This notice announces the process for eligible businesses to apply for payroll assistance under the “Aviation Manufacturing Jobs Protection” (AMJP) program, established by the “American Rescue Plan Act of 2021” (ARPA), which was enacted on March 11, 2021.¹ DOT does not plan to publish any further notice and no docket will be established. Instead, DOT will maintain a list of Frequently Asked Questions (FAQs) and answers on a dedicated web page (see related information below).

¹ Public Law (Pub. L.) 117-2, §§ 7201-7202.

This application process was the subject of a prior notice in the Federal Register, on April 14, 2021 (86 FR 1965), as required by the Paperwork Reduction Act. The information collection requirement associated with the application process has been approved by OMB under OMB Control Number 2106-0048. Public reporting burden for the certification is estimated to average 28 hours per response, including the time for reviewing instructions, searching existing data sources, gathering and maintaining the data needed, and completing and reviewing the collection of information. Notwithstanding any other provision of the law, no person is required to respond to, nor shall any person be subject to a penalty for failure to comply with, a collection of information subject to the requirements of the PRA, unless that collection of information displays a currently valid OMB Control Number.

The remainder of this notice includes:

1. Deadlines

2. Summary of Funding Opportunity

3. Eligibility Requirements and Definitions of Key Terms

4. How to Apply for Assistance Under This Program

5. Data and Documentation Required for the Application Process

6. Subsequent Steps and Associated Issues

7. Preservation of Safety-Related Responsibilities

8. Other Information

1. Deadlines

Deadline #1: Any questions regarding the application process must be submitted to AMJP@dot.gov by 5:00 p.m. prevailing Eastern time on June 22, 2021. DOT will not reply directly to questions, but will consider all questions received by this deadline and update the FAQs as appropriate on the web page at https://www.transportation.gov/AMJP. Questions received after this deadline will be addressed to the extent possible.

Deadline #2: Applications must be submitted in accordance with the instructions contained in this Notice, by 5:00 p.m. prevailing Eastern time on July 13, 2021. DOT will not consider any applications received after this deadline. Applicants are strongly urged to complete the application process at least 24 hours prior to the deadline and retain the official confirmation notification. Any problems related to telecommunications, connectivity, system compatibility, or any other technical issues will be the sole responsibility of the applicant, and DOT will not be able to accept or consider applications that are late, incomplete, or submitted through any other channels.

Applicants are strongly discouraged from contacting DOT outside of the established procedure for submitting questions (see Deadline #1, above) or the formal application process. DOT will not use information provided through any other mechanism. Additional contacts via telephone, email, letters, or requests for in-person meetings will add unnecessary burden, and delay the overall process for all applicants.

To be eligible, businesses must meet all the requirements set forth in “Eligibility Requirements and Key Definitions” and “Other Restrictions,” below. Eligible businesses that wish to be considered for this program must comply with the deadlines and requirements in this notice and the online application system.

Only established business entities that meet the eligibility requirements are eligible to apply for and receive funding under the AMJP. Neither any other type of organization nor individual employees (including contract employees) are eligible to apply for assistance under this program.

DOT has established a dedicated web page containing information on the AMJP program. This web page is publicly available at https://www.transportation.gov/AMJP. DOT strongly recommends that all interested businesses monitor this web page frequently for any new or updated information regarding the AMJP program.

2. Summary of Funding Opportunity

The statute allows DOT to enter into agreements with eligible business entities for a period of up to six months.² During that timeframe, DOT can provide up to 50 percent of the funding for the sole purpose of continuation of employee wages, salaries, and benefits, to maintain the Total Compensation Level ³ for the Eligible Employee Group (EEG) ⁴ for the duration of the agreement, and to facilitate the retention, rehire, or recall of employees of the applicant business, except that such funds may not be used for back pay of returning rehired or recalled employees.⁵

² Where possible, DOT will strive to work with recipients to align the term of the agreement with the recipient's payroll schedule, in order to simplify the supporting documentation, reporting and subsequent audit reviews.

³ See definition of “Total Compensation Level” (below).

⁴ See definition of “EEG” (below).

⁵ Public Law 117-2, § 7202(b).

As a condition of an agreement with DOT, the employer commits to refrain from conducting any involuntary layoffs, furloughs,⁶ or reductions in pay or benefits for the EEG, from the date of application and continuing until at least the expiration date of the agreement ⁷ and receipt of Federal funds provided thereunder. Other restrictions and requirements will apply as well, including a requirement to provide immediate notice and justification to the Secretary ⁸ of involuntary furloughs or layoffs exceeding 10 percent of the workforce that is not included in the EEG.⁹

⁶ DOT interprets the term “furlough” to include reductions in working days or hours.

⁷ Or September 30, 2021, whichever is later.

⁸ Wherever the term “Secretary” appears in this notice, it refers to the Secretary of Transportation.

⁹ Public Law 117-2, § 7201(2)(F).

The statute appropriated $3,000,000,000 for this program, and allows up to one (1) percent of the funds to be used for program administration. If eligible requests exceed the available funds, then DOT will reduce the funds provided, on a pro rata basis.¹⁰ If DOT has to pro-rate the funds, then DOT will use the total compensation level for each eligible applicant's EEG as the basis to calculate each eligible applicant's resulting share.

¹⁰ Public Law 117-2, § 7202(d).

Because of the pro-rata statutory requirement, DOT is conducting a single application and review process, with the intent of identifying all eligible recipients. This will enable DOT to determine whether funds need to be pro-rated, before entering into any agreements.

In the event of pro-ration, the funding agreements will cite two figures: First, the maximum eligible amount for the recipient; and second, the estimated amount that DOT would pay to the recipient, which would be lower than the maximum eligible amount. If any funds are recovered after the pro rata allocation, then DOT may allocate those funds, pro rata, among the remaining eligible recipients without any further solicitation for the $3,000,000,000 described in this notice. Moreover, DOT may reduce the amount of the Public Contribution that is actually disbursed to the recipient, to match the actual Private Contribution paid by the recipient, for documented compensation costs actually incurred for the allowable purpose (to retain or rehire employees within the EEG).

The “Eligibility Requirements and Definitions of Key Terms” section (below) reflects the criteria established in the statute, along with key clarifications. DOT does not have the authority to add other discretionary criteria in administering this program.

DOT intends to review all applications as quickly as possible after Deadline #2, in order to determine the amount of funding that can be made available to each eligible applicant.

3. Eligibility Requirements and Definitions of Key Terms

This section outlines several key requirements and definitions. The online application process will provide more detailed instructions.

Eligible businesses. The statute establishes three categories of businesses that are eligible to receive payroll assistance under this program. To be eligible, a business must meet at least one of the following three criteria: ¹¹

¹¹ Public Law 117-2, § 7201(2)(A).

• Businesses that actively manufacture an aircraft, aircraft engine, propeller, or a component, part, or systems of an aircraft or aircraft engine under a Federal Aviation Administration (FAA) production approval. The term “active” is defined in FAA Order 8120.23A, Sec. 3-3(b), and means that “FAA has issued a new production approval, or the [production approval holder] PAH has produced and/or shipped products or articles within the past 12 months.”

• Businesses that hold a certificate issued under Title 14, Code of Federal Regulations (CFR), part 145, for maintenance, repair, and overhaul of aircraft, aircraft engines, components, or propellers.

• Businesses that operate a process certified under SAE AS9100 ¹² related to the design, development, or provision of an aviation product or service, including a part, component, or assembly.¹³

¹² For information about SAE AS9100, see https://www.sae.org/standards/content/as9100/.

¹³ It is not sufficient simply to be in the aviation manufacturing business, even if the business meets other criteria such as ISO certification. To be eligible, the business must meet the criteria set forth in the statute as of the date the application is submitted.

There are several other requirements for eligibility. To be eligible, businesses must also meet all of the following:

• The business has been established, created, or organized in the United States or under the laws of the United States.¹⁴

¹⁴ Public Law 117-2, § 7201(2)(B)(i).

• The business generated at least 50 percent of its 2019 operating revenues from aviation manufacturing activities and services, or maintenance, repair, and overhaul activities and services based in the United States (including its territories or possessions).¹⁵

¹⁵ Public Law 117-2, § 7201(2)(B)(ii).

• Of the employees engaged in aviation manufacturing activities and services, or maintenance, repair, and overhaul activities and services as of April 1, 2020, at least 50 percent were based in the United States (including its territories or possessions).¹⁶

¹⁶ Public Law 117-2, § 7201(2)(B)(ii).

• The business must have involuntarily ¹⁷ furloughed or laid off at least 10 percent of its total workforce in 2020 as compared to 2019, or have experienced at least a 15 percent decline in 2020 total operating revenues compared to 2019. The applicant will be required to provide either aggregate numbers of personnel as of December 31, 2019 and December 31, 2020, or data demonstrating the aggregate number of furlough days imposed between those dates, or total operating revenues for the tax-years ending 2019 and 2020.¹⁸

¹⁷ The terms “involuntary” and “involuntarily” mean that the employer has made and implemented a unilateral decision to either lay off or furlough employees (as opposed to the employees offering to be laid off or furloughed).

¹⁸ Public Law 117-2, § 7201(2)(C).

• The business must identify an EEG and the “total compensation level” for the EEG. (See separate definitions, below.)

• The business must be able to commit to funding its share (the “Private Contribution”) of the total compensation level for the EEG, for the duration of the agreement.¹⁹

¹⁹ Public Law 117-2, § 7201(2)(E).

• The business must be able to commit to provide immediate notice and justification to the Secretary of any involuntary furloughs or layoffs exceeding 10 percent of the workforce that is not included in the EEG for the duration of the agreement and receipt of Federal funds provided thereunder.²⁰

²⁰ Public Law 117-2, § 7201(2)(F).

• The business cannot conduct involuntary furloughs or reduce pay rates or benefits for the EEG between the date of application and the date on which the applicant enters into an agreement with the Secretary.²¹

²¹ Public Law 117-2, § 7201(2)(G).

• The business must commit that it will not conduct involuntary layoffs or furloughs, or reduce pay rates and benefits, for the EEG, from the date of agreement at least until the expiration date of the agreement.²² This commitment does not impede the employer's right to discipline or terminate specific employees for reasons related to performance or conduct, in accordance with the employer's established policies.²³

²² Or September 30, 2021, whichever is later.

²³ Public Law 117-2, § 7201(2)(H).

• The business cannot have been allowed a credit against applicable employment taxes under section 2301 of the CARES Act (26 U.S.C. 3111 note) for the calendar quarter ending immediately before entering into an agreement with DOT.²⁴ Because DOT anticipates establishing these agreements during the quarter ending September 30, 2021, this means the business cannot have been allowed such credits for the quarter ending June 30, 2021.²⁵

²⁴ Public Law 117-2, § 7202(c).

²⁵ DOT anticipates awarding agreements under the AMJP by the end of September 2021, in which case this provision would mean the applicant cannot have received the referenced credits during the quarter ending June 30, 2021. If an applicant has received such credits during that quarter, and wishes to forego such credits in the quarter ending September 30, 2021, then DOT may still be able to consider entering into an agreement after October 1, 2021.

• The business cannot have received financial assistance under section 4113 of the CARES Act (15 U.S.C. 9073).²⁶

²⁶ Public Law 117-2, § 7202(c).

• The business cannot be expending financial assistance under the paycheck protection program established under section 7(a)(36) of the Small Business Act (15 U.S.C. 636(a)(36)), as of the date the employer submits an application under the AMJP.²⁷

²⁷ Public Law 117-2, § 7202(c).

No entity (including any government agency or subdivision) may submit an application on behalf of another entity. There is no provision for sub-awards. Only eligible businesses (as defined above) may apply.

Employee. The statute authorizing the AMJP defines “employee” based on section 3 of the Fair Labor Standards Act of 1938 (29 U.S.C. 203). This refers to Title 29 United States Code, § 203(e)(1), which states in pertinent part that “the term `employee' means any individual employed by an employer.” There are other provisions contained in § 203(e) that are not relevant in the context of this program. In addition, DOT has determined that a contract employee (i.e., any individual who provides services but is compensated through fees reported on IRS Form 1099 rather than through salary or wages reported on IRS Form W2) may not be counted as an “employee” for purposes of this program, unless they are themselves an established business entity that meets all of the eligibility criteria, in which case they may apply for the program directly.

Eligible Employee Group (EEG). Each applicant must define its EEG based on the following parameters:

• Includes only employees that were engaged in aviation manufacturing activities and services, or maintenance, repair, and overhaul activities and services as of April 1, 2020.²⁸ The term “engaged in” means employees who spent at least 50 percent of their time actually conducting technical engineering design, design oversight, and/or the physical steps involved in creating aircraft parts or components, or conducting inspections, maintenance or repair work on aircraft or aircraft components;

²⁸ Public Law 117-2, § 7201(1)(C).

• Cannot exceed 25 percent of the employer's total United States workforce as it existed on April 1, 2020; ²⁹ and

²⁹ Public Law 117-2, § 7201(1)(A).

• Can only include employees with a total compensation level ³⁰ of $200,000 or less per year as of April 1, 2020.³¹

³⁰ “Total compensation level” is defined below.

³¹ Public Law 117-2, § 7201(1)(B).

Total compensation level. The term “total compensation level” means the level of total base compensation and benefits being provided to EEG employees, as of April 1, 2020, excluding overtime and premium pay, and excluding any Federal, State, or local payroll taxes paid by the employer.³²

³² Public Law 117-2, § 7201(8).

If an employee's base salary was $180,000 and their additional benefits equated to $21,000, then that employee cannot be included in the “EEG” even though the employee may pay Federal, State, or local income tax on that compensation, and therefore the employee's net compensation from the employer was less than $200,000.

United States workforce. For purposes of this program, DOT defines “United States workforce” to include employees who are legal residents of the United States or its territories (including U.S. citizens, lawful permanent residents, or others who were legally permitted to work in the United States as of April 1, 2020, and are still legally permitted to work in the United States as of the date the application is submitted), and whose primary duty location is physically located within the United States or its territories. It does not include employees whose primary duty location is physically located outside of the United States, even if they are employed by a U.S.-based employer.

Public Contribution. The term “Public Contribution” means the amount of funding available from the Federal Government under this program, to provide up to 50 percent of the EEG's total compensation level.

Private Contribution. The term “Private Contribution” means the amount funded by the employer, to maintain at least 50 percent of the EEG's total compensation level. If DOT has to pro-rate the Public Contribution, then the applicant must adjust the Private Contribution accordingly.

4. How To Apply for Assistance Under This Program

DOT has published Assistance Listing #20.114 online at sam.gov. However, all applicants must complete the online application at https://www.transportation.gov/AMJP/apply, in strict accordance with Deadline #2 as stated above. Applicants must provide all required data and supporting documentation, and complete all required certifications, based on the instructions accompanying the online application system. DOT will provide system-related support through an online help desk. However, DOT cannot assist applicants with substantive questions about the application process beyond what is stated in this notice, subsequent supplemental notices, or what may be posted on DOT's official AMJP program web page in the form of FAQs.

Prospective applicants are strongly urged to complete the application at least 24 hours prior to Deadline #2. Any problems related to telecommunications, connectivity, system compatibility, or any other technical issues will be the sole responsibility of the applicant, and DOT will not be able to accept or consider applications that are late, incomplete, or submitted through any other channels.

5. Data and Documentation Required for the Application Process

Applicants are required to provide the following data and supporting documentation (in electronically searchable documents) through the designated online application system, including but not limited to financial reports and redacted payroll reports where applicable. Please refer to the “Eligibility Requirements and Definitions of Key Terms” section for further information on terms used throughout this section. This is not a comprehensive listing. The online application system will provide additional detailed instructions:

• Legal name of the applicant (i.e., the legal name of the business entity), as well as any other identities under which the applicant may be doing business.

• Address, telephone, and email contact information for the applicant.

• Business structure and ownership. The form of the applicant's organization (e.g., Corporation, S Corporation, Limited Liability Company, Sole Proprietorship, Partnership, etc.), along with the state(s) in which the applicant is organized, and the date of incorporation or organization.

• Name and title of the authorized representative of the applicant (who will attest to the required certifications).

• If the applicant chooses to authorize any external parties to assist in the online preparation of their application (such as outside accountants, attorneys, or auditors), those parties must register in the online application system and be authorized by the applicant to provide information on behalf of the applicant. However, the applicant will retain full responsibility for certifying that all data provided is complete and accurate.

• The specific statutory criteria that the applicant meets for eligibility under this program. The statute defines eligible applicants to include a corporation, firm, or other business entity that “(i) actively manufactures an aircraft, aircraft engine, propeller, or a component, part, or systems of an aircraft or aircraft engine under a Federal Aviation Administration production approval; (ii) holds a certificate issued under part 145 of title 14, Code of Federal Regulations, for maintenance, repair, and overhaul of aircraft, aircraft engines, components, or propellers; or (iii) operates a process certified to SAE AS9100 ³³ related to the design, development, or provision of an aviation product or service, including a part, component, or assembly.” The application system requires applicants to identify which of these categories they meet, and how. The system also requires applicants to upload supporting documentation, including reference numbers and copies of certificates or authorizations issued by either the FAA or SAE.

³³ See https://www.sae.org/standards/content/as9100/.

• Other identification numbers, including but not limited to the Employer/Taxpayer Identification Number (EIN/TIN), Data Universal Numbering System (DUNS) number, Unique Entity Identifier under 2 CFR part 25. All applicants must have registered with the System for Award Management (SAM) at https://sam.gov/SAM/.³⁴ For purposes of the AMJP program, it is not necessary to be registered to pursue Federal contracts (which takes longer to process). Instead, when asked “Why are you registering this entity to do business with the U.S. government?” applicants for the AMJP need only select the option that reads, “I only want to apply for federal assistance opportunities like grants, loans, and other financial assistance programs.”

³⁴ As required by 2 CFR part 25.200(b), applicants must also “Maintain an active SAM registration with current information, including information on a recipient's immediate and highest level owner and subsidiaries, as well as on all predecessors that have been awarded a Federal contract or grant within the last three years, if applicable, at all times during which it has an active Federal award or an application or plan under consideration by a Federal awarding agency.”

• Quantitative data demonstrating how the applicant's business operations meet the requirements regarding significant operations (and a majority of its employees engaged) in aviation manufacturing based in the United States. This will include the number (and percentage) of employees who were engaged in aviation manufacturing activities and services, or maintenance, repair, and overhaul activities and services, and the percentage of those employees who were based in the United States, as of April 1, 2020.

• Details sufficient to demonstrate how the applicant meets the requirement to have “involuntarily furloughed or laid off at least 10 percent of its total workforce in 2020 as compared to 2019, or has experienced at least a 15 percent decline in 2020 revenues as compared to 2019.” Failure to provide sufficient detail addressing the key criteria may result in a determination that the entity is ineligible or unresponsive. The burden of meeting the statutory criterial falls on the applicant.

• Certification that the applicant has not received a credit against applicable employment taxes under section 2301 of the CARES Act (26 U.S.C. 3111 note) for the immediately preceding calendar quarter ending before such agreement is entered into, or financial assistance under section 4113 of the CARES Act (15 U.S.C. 9073) (providing payroll support to air carriers and contractors), and is not currently expending financial assistance under the paycheck protection program established under section 7(a)(36) of the Small Business Act (15 U.S.C. 636(a)(36)), as of the date the employer submits an application under the AMJP. If a business entity meets any of these criteria, there is no provision in the statute that would allow the business to return those funds in order to qualify for the AMJP.

• Definition of the applicant's “EEG,” identifying the job categories and numbers of personnel in each category as of April 1, 2020.

• The total cost of compensation for the EEG for the six-month period ending on April 1, 2020. DOT will require a breakdown of the compensation costs (e.g., aggregate base wages and salaries, and major benefit categories). Applicants will be required to provide supporting documentation in sufficient detail to substantiate the preceding costs, but specifically excluding any Personally Identifiable Information (PII) for any individual employees. This may include financial reports and redacted payroll reports, or such additional supporting documentation as DOT may require.

• The amount of Public Contribution the applicant is requesting (which may be equal to half the total compensation level (or less) for the EEG as of April 1, 2020), and whether the applicant is requesting the funds to rehire or retain employees, or a combination.

• Whether the applicant business entity is currently engaged in any legal proceeding that could jeopardize its ability to fulfill the legal commitments required in statute as conditions for receiving funds under the AMJP. Examples of such proceedings could include (but are not limited to) any process related to the United States Bankruptcy Code, potential merger or acquisition discussions, or current litigation against the applicant. The application system will request that applicants identify any such issues at a high level, but avoid including unnecessary details in the application. Such circumstances would not necessarily, on their own, render an applicant ineligible. However, DOT would consider such circumstances in a risk-based approach to oversight, and may include additional conditions in the agreement, including but not limited to continuing disclosure and supplemental reporting requirements.

• Whether the applicant is delinquent on any debt to any Federal agency, along with supporting details. Such circumstances would not necessarily, on their own, render an applicant ineligible. However, DOT may be required to coordinate with other Federal agencies to ensure resolution of these circumstances before processing disbursements under the AMJP.

• Certification by the applicant that they can and will enter into a legal agreement with DOT, that will require the applicant to (1) provide the Private Contribution (which means the remainder of the total compensation costs associated with the EEG that is not funded by assistance under the AMJP); and (2) not conduct any involuntary layoffs, furloughs, or reductions in pay rates or benefits for the EEG during the term of the agreement with DOT.

• Although DOT may verify the accuracy of these certifications, possibly using a risk-based approach to verification, applicants are legally responsible for ensuring the accuracy of these certifications.

• After DOT determines eligibility and enters into an agreement with the applicant (referred to hereafter as “the recipient”), DOT may also require the recipient to provide updated information to DOT on the actual aggregate total cost of compensation for the EEG during the period of the agreement with DOT, if DOT determines it is necessary in order to review and approve actual disbursements pursuant to the agreement. Recipients will be required to provide supporting documentation in sufficient detail to substantiate the actual costs, specifically excluding any Personally Identifiable Information (PII) for any individual employees.

• Recipients will also be required to provide additional supporting information and certifications in support of disbursement requests.

• Sworn certification as to the complete and accurate nature of all information provided, including all supporting documentation and any information provided by other parties such as outside accountants, auditors or attorneys, subject to civil or criminal penalties. The specific certification language will include: “I certify under penalty of perjury that the information and certifications provided in the application and its attachments are true and correct. WARNING: Anyone who knowingly submits a false claim or makes a false statement is subject to criminal and/or civil penalties, including confinement for up to 5 years, fines, and civil penalties. (18 U.S.C. 287, 1001; 31 U.S.C. 3729, 3802).”

In making its eligibility determinations, DOT will not consider any other factors, such as financial stability, financial need, economic impacts of the business, magnitude of lost revenues, size of the business, or regional considerations. DOT will make eligibility determinations based solely on the statutory criteria, as set forth in this notice.

Even if an applicant wishes to rely upon an outside entity to prepare the entire application on their behalf, an authorized representative of the applicant (which must be an owner, officer or employee of the applicant) must make all the required certifications as outlined above, after verifying that all of the information provided in the application is complete and accurate.

Likewise, if an applicant relies upon an outside entity to assist in the application process, the responsibility for meeting the deadline remains with the applicant, including all required documentation and certifications in the online system. DOT will not consider any application that is either incomplete or submitted after Deadline #2.

DOT may seek additional supporting documentation from any applicant at any time, either during the application review process or subsequently. However, DOT shall not be under any obligation to allow an applicant to modify its supporting information after Deadline #2 has passed. Any materially incorrect, incomplete, or misleading information provided in support of the application may be grounds for cancellation of the agreement and recovery of any funds already disbursed or in process of disbursement.

6. Subsequent Steps and Associated Issues

After all applications have been received, DOT will review and validate the applications, make final eligibility determinations, and determine the resulting allocation of funds. DOT cannot predict how long this will take. The duration will depend heavily on the number of applications received.

Once an agreement is in place, DOT may require continuing disclosure and reporting in support of disbursement requests. If an approved recipient experiences natural attrition within the EEG, or terminates any employee in the eligibility employee group due to performance or conduct issues in accordance with employer policy,³⁵ DOT will not require the recipient to backfill vacancies. However, the recipient will be required to disclose any reduction in the total compensation costs for the EEG and DOT may make comparable reductions in the actual disbursements to the recipient.

³⁵ § 7201(2)(H).

If the recipient backfills such vacancies during the term of the agreement, then the recipient may include the associated compensation costs in subsequent disbursement requests. However, any resulting increase in total compensation costs will not increase the Public Contribution.

The statute requires recipients to refrain from conducting involuntary layoffs or furloughs among the EEG during the term of the agreement.³⁶ DOT's expectation is that this assistance program would also reduce the need for businesses to consider layoffs or furloughs after the term of the agreement has ended. Therefore, the agreement may include disclosure requirements, and may state that the prohibition on furloughs or layoffs among the EEG does not restrict the employer from providing notice, during the term of the agreement, of actions that may occur after the term of the agreement.

³⁶ Or until September 30, 2021, whichever is later.

DOT anticipates making an initial disbursement shortly after awarding each agreement. Recipient companies will be required to submit updated information, supporting documentation, and further certifications of compliance prior to receiving any subsequent disbursement(s), including comprehensive closeout documentation. As noted above, if award amounts have to be reduced on a pro rata basis but then any funds are recovered from other recipients, then DOT may make supplemental disbursements to the remaining eligible recipients.

In accordance with 2 CFR 200.333 (“Retention requirements for Records”), recipients will be required to retain all supporting documentation for three (3) years after submitting the final expenditure report. If any litigation, claim, or audit is started before the expiration of the three-year period, then the records must be retained until all litigation, claims, or audit findings involving the records have been resolved and final action taken.

If a recipient enters an agreement under this program but then cannot fulfill its statutory and contractual obligations under that agreement, including (but not limited to) funding the Private Contribution), then DOT will seek appropriate remedies, including (but not limited to) termination of the agreement and/or recovery of any funds already disbursed. All recipients may be subject to audits by DOT or other oversight agencies, and any funds improperly used may have to be returned to the government.

If a recipient enters an agreement under this program but then files for protection under any process related to the United States Bankruptcy Code, then DOT may terminate the agreement and seek appropriate remedies, including recovery of any funds already disbursed.

If a recipient enters an agreement under this program but is then acquired by (or merges with) another business in a manner that affects eligibility or compliance with the agreement, then DOT may terminate the agreement and seek appropriate remedies, including recovery of any funds already disbursed. The agreement will address related requirements for notification to the government and assignment.

7. Preservation of Safety-Related Responsibilities

DOT will not make any substantive judgment about the job categories that an applicant does or does not include in defining the EEG. DOT will only verify that the EEG meets the requirements set forth in this notice. Nothing in DOT's determination of eligibility in any way relieves the applicant of its responsibilities, including all safety-related responsibilities pursuant to certificates issued by the FAA, or compliance obligations under federal regulations and any other legal obligations.

8. Other Information

Financial assistance under this program is subject to the requirements of 2 CFR part 170, in accordance with the Federal Funding Accountability and Transparency Act of 2006 (Pub. L. 109-282), as amended by section 6202 of Public Law 110-252. The agreements will include corresponding requirements, including the requirements pertaining to executive compensation. Before providing financial assistance under this program greater than the simplified acquisition threshold, DOT is required to review and consider any information about the applicant that is in the designated integrity and performance system accessible through SAM (currently FAPIIS ³⁷) (see 41 U.S.C. 2313). An applicant may, at its option, review information in the designated integrity and performance systems accessible through SAM and comment on any information about itself that a Federal awarding agency previously entered and is currently in the designated integrity and performance system accessible through SAM. DOT will consider any comments by the applicant, in addition to the other information in the designated integrity and performance system, in making a judgment about the applicant's integrity, business ethics, and record of performance under Federal awards when completing the review of risk posed by applicants as described in 2 CFR 200.206.

³⁷ Federal Awardee Performance and Integrity Information System.

As noted previously, DOT strongly recommends that all interested businesses monitor the official DOT program web page frequently for any new or updated information regarding the AMJP program.

Signed in Washington, DC, on June 8, 2021.
Brian Elliott Black,
Director, Aviation Manufacturing Jobs Protection Program, U.S. Department of Transportation.

[FR Doc. 2021-12374 Filed 6-11-21; 8:45 am]

BILLING CODE 4910-9X-P